DEPARTMENT OF ENERGY

Federal Energy Regulatory Commission

[Docket No. CP08-15-000]

Steckman Ridge, LP; Notice of Availability of the Environmental Assessment for the Proposed Steckman Ridge Storage Project

March 7, 2008.

The staff of the Federal Energy Regulatory Commission (FERC or Commission) has prepared an environmental assessment (EA) on the natural gas pipeline facilities proposed by Steckman Ridge, LP (Steckman), in the above-referenced docket.

The EA was prepared to satisfy the requirements of the National Environmental Policy Act. The staff concludes that approval of the proposed project, with appropriate mitigating measures, would not constitute a major federal action significantly affecting the quality of the human environment.

The EA assesses the potential environmental effects of the construction and operation of the proposed project. Steckman proposes to convert a depleted natural gas production field into a multi-cycle natural gas storage facility located in Bedford County, Pennsylvania. Specifically, the project would include:

• Removal and/or abandonment of existing production field piping and aboveground equipment;

• Conversion of 5 depleted production wells into storage wells;

• Drilling and development of 18 new storage wells and construction of wellhead facilities;

• Construction of a storage field pipeline network and associated aboveground facilities including launcher/receiver facilities and valve sites; and

• Construction of one 9,000 horsepower compressor station, including a meter and regulator station, common launcher and receiver facility, and other associate appurtenances.

The storage field piping network would include the Trunk Line 91 (about 2.8 miles of 16-inch diameter pipeline), Trunk Line 90 (about 4.1 miles of 16-inch diameter pipeline), and 23 well laterals totaling 3.5 miles of 6-inch, 8-inch, and 10-inch diameter pipeline.

The purpose of the proposed facilities would be to provide about 17.7 billion cubic feet (Bcf) total capacity (up to 12 Bcf would be working capacity and 5.7 Bcf would be base gas).

The EA has been placed in the public files of the FERC. A limited number of copies of the EA are available for distribution and public inspection at: Federal Energy Regulatory Commission, Public Reference Room, 888 First Street, NE., Room 2A, Washington, DC 20426, (202) 502-8371.

Copies of the EA have been mailed to federal, state and local agencies, public interest groups, interested individuals, tribes, newspapers, and parties to this proceeding.

Any person wishing to comment on the EA may do so. To ensure consideration prior to a Commission decision on the proposal, it is important that we receive your comments before the date specified below.

Please note that the Commission strongly encourages electronic filing of any comments or interventions or protests to this proceeding. See 18 Code of Federal Regulations 385.2001(a)(1)(iii) and the instructions on the Commission's Internet Web site at http://www.ferc.gov under the link to “Documents and Filings” and “eFiling.” eFiling is a file attachment process and requires that you prepare your submission in the same manner as you would if filing on paper, and save it to a file on your hard drive. New eFiling users must first create an account by clicking on “Sign up” or “eRegister.” You will be asked to select the type of filing you are making. This filing is considered a “Comment on Filing.” In addition, there is a “Quick Comment” option available, which is an easy method for interested persons to submit text only comments on a project. The Quick-Comment User Guide can be viewed at http://www.ferc.gov/docs-filing/efiling/quick-comment-guide.pdf. Quick Comment does not require a FERC eRegistration account; however, you will be asked to provide a valid e-mail address. All comments submitted under either eFiling or the Quick Comment option are placed in the public record for the specified docket or project number(s).

If you are filing written comments, please carefully follow these instructions to ensure that your comments are received in time and properly recorded:

• Send an original and two copies of your comments to: Kimberly D. Bose, Secretary, Federal Energy Regulatory Commission, 888 First St., NE., Room 1A, Washington, DC 20426;

• Label one copy of the comments for the attention of the Gas Branch 2, PJ11.2;

• Reference Docket No. CP08-15-000; and

• Mail your comments so that they will be received in Washington, DC, on or before April 7, 2008.

Comments will be considered by the Commission but will not serve to make the commenter a party to the proceeding. Any person seeking to become a party to the proceeding must file a motion to intervene pursuant to Rule 214 of the Commission's Rules of Practice and Procedures (18 CFR 385.214).¹ Only intervenors have the right to seek rehearing of the Commission's decision.

¹ Interventions may also be filed electronically via the Internet in lieu of paper. See the previous discussion on filing comments electronically.

Affected landowners and parties with environmental concerns may be granted intervenor status upon showing good cause by stating that they have a clear and direct interest in this proceeding which would not be adequately represented by any other parties. You do not need intervenor status to have your comments considered.

Additional information about the project is available from the Commission's Office of External Affairs, at 1-866-208-FERC or on the FERC Internet Web site (http://www.ferc.gov) using the eLibrary link. Click on the eLibrary link, click on “General Search” and enter the docket number excluding the last three digits in the Docket Number field. Be sure you have selected an appropriate date range. For assistance, please contact FERC Online Support at FercOnlineSupport@ferc.gov or toll free at 1-866-208-3676, or for TTY, contact (202) 502-8659. The eLibrary link also provides access to the texts of formal documents issued by the Commission, such as orders, notices, and rulemakings.

In addition, the Commission now offers a free service called eSubscription which allows you to keep track of all formal issuances and submittals in specific dockets. This can reduce the amount of time you spend researching proceedings by automatically providing you with notification of these filings, document summaries and direct links to the documents. Go to http://www.ferc.gov/esubscribenow.htm.

Kimberly D. Bose,
Secretary.

[FR Doc. E8-5109 Filed 3-13-08; 8:45 am]

BILLING CODE 6717-01-P